DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are descried in footnotes to the application number. Application numbers with the suffix “M” denote a modification request. These applications have been separated from the new applications for special permits to facilitate processing.

DATES: Comments must be received on or before July 3, 2006.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the application are available for inspection in the Records Center, Nassif Building, 400 7th Street, SW., Washington, DC or at http://dms.dot.gov.

This notice of receipt of applications for modification of special permits is published in accordance with part 107 of the Federal hazardous materials transportation law (49 U.S.C. 5117(b); 49 CFR 1.53(b)).

Issued in Washington, DC, on June 12, 2006.
R. Ryan Posten,
Chief, Special Permits Program, Office of Hazardous Materials, Special Permits & Approvals.

Modification Special Permits
Application No. | Docket No. | Applicant | Regulation(s) affected | Nature of special permit thereof
3121-M |  | Department of the Army, Ft. Eustis, VA | 49 CFR 172.101 (Column 8(c)); 177.841 | To modify the special permit to authorize the transportation in commerce of dinitrogen tetroxide without an updated emergency response plan.
7887-M |  | Estes-Cox Corporation, Penrose, CO | 49 CFR 172.101; 175.3 | To modify the special permit to allow igniters, Division 1.4S, to be shipped in the same inner and outer packaging as model rocket motors and with non-hazardous materials needed to construct model rockets.
10646-M |  | Schlumberger, Sugar Land, TX | 49 CFR 173.302 | To modify the special permit to authorize design improvements to the bleed valve and construction materials.
11536-M |  | Boeing, Los Angeles, CA | 49 CFR 173.102 Spec. Prov. 101; 173.24(g); 173.62; 173.202; 173.304; 175.3 | To modify the special permit to authorize an additional spacecraft shipping package containing Class 3 and 8, and Division 2.2 materials.
12068-M | 3850 | Sea Launch, Long Beach, CA | 49 CFR Part 172, Subparts C, D, E and F; 173.62; Part 173, Subparts E, F and G | To modify the special permit to authorize the transportation in commerce of a launch vehicle containing Division 1.4 and Class 3 hazardous materials, in non-DOT specification packaging.
13027-M | 12451 | Hernco Fabrication & Services, Midland, TX | 49 CFR 173.241; 173.242 | To modify the special permit to authorize the transportation in commerce of additional Division 3 and 8 hazardous materials in non-DOT specification portable tanks.
13207-M | 15068 | BEI, Honolulu, HI | 49 CFR 173.32(f)(5) | To modify the exemption to authorize the use of additional DOT Specification IM 101 steel portable tanks that do not conform to the filling density requirements for the transportation of a Class 8 material.
13235-M | 15238 | Airgas-SAFECOR, Cheyenne, WY | 49 CFR 172.203(a); 177.834(h) | To modify the special permit to authorize filling and discharging of a horizontally mounted DOT specification 4L cylinder with liquid oxygen, refrigerated liquid without removal from the vehicle.
14205-M | 21733 | The Clorox Company, Pleasanton, CA | 49 CFR 173.306(a)(1) and 173.306(a)(3)(v) | To modify the special permit to authorize the transportation in commerce of aerosol products containing Division 2.1 gases.
14282-M |  | R&R Trucking, Incorporated, Galt, MO | 49 CFR 173.835(g) | To modify the special permit to remove the marking requirements of § 172.203(c).
14327-M | 24248 | The Colibri Group, Inc., Providence, RI | 49 CFR 173.21, 173.308, 175.33 | To modify the special permit to authorize the transportation in commerce of any approved lighter when packaged in special travel containers and transported in checked luggage by passenger aircraft.

[FR Doc. 06-5464 Filed 6-15-06; 8:45 am]

BILLING CODE 4909-60-M